NATIONAL AERONAUTICS AND SPACE ADMINISTRATION

[Notice (12-065)]

Government-Owned Inventions, Available for Licensing.

AGENCY: National Aeronautics and Space Administration.

ACTION: Notice of availability of inventions for licensing.

SUMMARY: Patent applications on the inventions listed below assigned to the National Aeronautics and Space Administration, have been filed in the United States Patent and Trademark Office, and are available for licensing.

DATES: September 6, 2012.

FOR FURTHER INFORMATION CONTACT: Mark W. Homer, Patent Counsel, NASA Management Office—JPL, 4800 Oak Grove Drive, Mail Stop 180-200, Pasadena, CA 91109; telephone (818) 354-7770.

NASA Case No.: DRC-009-026: Systems and Methods for Peak-Seeking Control Polarization-Induced Fading in Fiber-Optic System;

NASA Case No.: NPO-47142-1: Robotic Tissue Scaffold;

NASA Case No.: NPO-47717-1: 360-Degree Camera Head for Unmanned Surface Sea Vehicles;

NASA Case No. NPO-47300-1: Textured Silicon Substrate Anode for LI Ion Battery;

NASA Case No. NPO-47604-1: Whispering Gallery Optical Resonator Spectroscopic Probe and Method;

NASA Case No. NPO-47580-1: Energy Harvesting Systems and Methods of Assembling Same;

NASA Case No. NPO-47310-1: Method and Apparatus for Measuring Near-Angle Scattering of Mirror Coatings;

NASA Case No. NPO-47869-1: Field Programmable Gate Array Apparatus, Method, and Computer Program.

Sumara M. Thompson-King,
Acting Deputy General Counsel.

[FR Doc. 2012-21915 Filed 9-5-12; 8:45 am]

BILLING CODE P